DEPARTMENT OF ENERGY

Bonneville Power Administration

Big Horn Wind Energy Project

AGENCY: Bonneville Power Administration (BPA), Department of Energy (DOE).

ACTION: Notice of availability of Record of Decision (ROD).

SUMMARY: This notice announces the availability of the ROD to offer contract terms for interconnection of 200 megawatts of power to be generated by the proposed Big Horn Wind Energy Project into the Federal Columbia River Transmission System. The project would be interconnected at a proposed BPA switching substation along BPA's Big Eddy-Midway No. 1 230-kilovolt transmission line. The proposed BPA switching substation and Big Horn Wind Energy Project would be located near the town of Bickleton in Klickitat County, Washington. This decision is consistent with and tiered to BPA's Business Plan Environmental Impact Statement (DOE/EIS-0183, June 1995) and the Business Plan Record of Decision (August 15, 1995).

ADDRESSES: Copies of this ROD may be obtained by calling BPA's toll-free document request line, 1-800-622-4520. This ROD and the Business Plan EIS and ROD are also available on our Web site, http://www.efw.bpa.gov.

FOR FURTHER INFORMATION, CONTACT: Rick Yarde, Bonneville Power Administration—KEC-4, P.O. Box 3621, Portland, Oregon 97208-3621; toll-free telephone number 1-800-282-3713; fax number (503) 230-5699; or e-mail rryarde@bpa.gov.

Issued in Portland, Oregon, on March 24, 2005.
Stephen J. Wright,
Administrator and Chief Executive Officer.

[FR Doc. 05-6595 Filed 4-1-05; 8:45 am]

BILLING CODE 6450-01-P